DEPARTMENT OF AGRICULTURE

Rural Utilities Service

Dairyland Power Cooperative: Notice of Intent To Prepare an Environmental Impact Statement and Hold Additional Public Scoping Meetings

AGENCY: Rural Utilities Service, USDA.

ACTION: Notice of intent to prepare an Environmental Impact Statement and hold additional public scoping meetings.

SUMMARY: The Rural Utilities Service (RUS) intends to prepare an Environmental Impact Statement (EIS) and hold additional public scoping meetings in connection with possible impacts related to the Cardinal-Hickory Creek Transmission Line Project proposed by Dairyland Power Cooperative (DPC). Other utilities participating in the Project are American Transmission Company LLC, by its corporate manager ATC Management Inc. and ITC Midwest LLC.

The proposal consists of the construction of a 345-kilovolt (kV) transmission line and associated infrastructure connecting the Hickory Creek Substation in Dubuque County, Iowa, with the Cardinal Substation in the Town of Middleton, Wisconsin (near Madison, Wisconsin). The Project also includes a new intermediate 345/138-kV substation near the Village of Montfort in either Grant County or Iowa County, Wisconsin. The total length of the 345-kV transmission lines associated with the proposed project will be approximately 125 miles. DPC and the other project participants have identified proposed and alternate segments and locations for transmission lines and associated facilities and for the intermediate substation. Dairyland Power Cooperative is requesting RUS to provide financing for its portion of the proposed project.

DATES: RUS will conduct two public scoping meetings in an open-house format at the following locations:

Date | Location | Time | Venue
December 6, 2016 | Peosta, Iowa | 4:00-7:00 p.m | Peosta Community Center, 7896 Burds Road, Peosta, IA 53068.
December 7, 2016 | Barneveld, Wisconsin | 4:00-7:00 p.m | Deer Valley Lodge, 401 West Industrial Drive, Barneveld, WI 53507.

The additional meetings are being held to give the public more opportunities to review the project and provide comments.

ADDRESSES: To send comments or for further information, contact Dennis Rankin, Environmental Protection Specialist, U.S. Department of Agriculture, Rural Utilities Service, 1400 Independence Avenue SW., Room 2244, Stop 1571, Washington, DC 20250-1571 Email: dennis.rankin@wdc.usda.gov Washington, DC 20250-1571. The public comment period for the proposed project will extend through January 6, 2017.

An Alternative Evaluation Study (AES) and Macro Corridor Study (MCS), prepared by Dairyland Power Cooperative, will be presented at the public scoping meetings. The reports are available for public review at the RUS address provided in this notice and at Dairyland Power Cooperative, 3251 East Avenue South, La Crosse, WI 54602. In addition, the reports will be available at RUS' Web site, http://www.rd.usda.gov/publications/environmental-studies/impact-statements and at local libraries in the project area.

SUPPLEMENTARY INFORMATION: Preliminary proposed transmission line corridors, the siting area for the intermediate substation, and the two existing end-point substations have been identified. The EIS will address the construction, operation, and management of the proposed project, which includes the following: A new 345-kV terminal within the existing Hickory Creek Substation in Dubuque County, Iowa; a new intermediate 345/138-kV substation near the Village of Montfort in either Grant or Iowa County, Wisconsin; a new 345 kV terminal within the existing Cardinal Substation in the Town of Middleton in Dane County, Wisconsin; a new 45- to 65-mile (depending on the final route) 345-kV transmission line between the Hickory Creek Substation and the intermediate substation; a new 45- to 60-mile (depending on the final route) 345-kV transmission line between the intermediate substation and the existing Cardinal Substation; a short, less than one-mile, 69-kV line in Iowa; facility reinforcement needed in Iowa and Wisconsin; construction and maintenance of access roads for all proposed transmission lines and rebuild of the Turkey River Substation in Dubuque County, Iowa with two 161/69 kV transformers, four 161-kV circuit breakers, and three 69-kV circuit breakers.

Total length of the transmission lines for the proposed project will be approximately 125 miles. The project study area includes part or all of the following counties in Iowa: Clayton and Dubuque. In Wisconsin, the project area includes parts of the following counties: Dane, Grant, Iowa, and Lafayette.

Among the alternatives RUS will address in the EIS is the No Action alternative, under which the project would not be undertaken. In the EIS, the effects of the proposed project will be compared to the existing conditions in the area affected. Alternative transmission line corridors and the intermediate substation location will be refined as part of the EIS scoping process and will be addressed in the Draft EIS. RUS will carefully study public health and safety, environmental impacts, and engineering aspects of the proposed project and all related facilities.

The U.S. Army Corps of Engineers (USACE) and the U.S. Fish and Wildlife Service (USFWS) are participating in the environmental review process as cooperating agencies, with RUS as the lead Federal agency.

RUS will use input provided by government agencies, private organizations, and the public in the preparation of the Draft EIS. The Draft EIS will be available for review and comment for 45 days. A Final EIS that considers all comments received will subsequently be prepared. The Final EIS will be available for review and comment for 30 days. Following the 30- day comment period, RUS will prepare a Record of Decision (ROD). Notices announcing the availability of the Draft EIS, the Final EIS, and the ROD will be published in the Federal Register and in local newspapers.

Any final action by RUS related to the proposed project will be subject to, and contingent upon, compliance with all relevant federal, state, and local environmental laws and regulations and completion of the environmental review requirements as prescribed in the RUS Environmental Policies and Procedures (7 CFR part 1970).

Dated: November 15, 2016.
Kellie Kubena,
Director, Engineering and Environmental Staff, Rural Utilities Service.

[FR Doc. 2016-27988 Filed 11-21-16; 8:45 am]

BILLING CODE P